DEPARTMENT OF AGRICULTURE

Agricultural Marketing Service

[Document No. AMS-SC-19-0044]

Notice of Request for Revision of a Currently Approved Information Collection

AGENCY: Agricultural Marketing Service, USDA.

ACTION: Notice and request for comments.

SUMMARY: In accordance with the Paperwork Reduction Act of 1995, this notice announces the Agricultural Marketing Service's (AMS) intention to request for an extension and revision of a currently approved information collection for Specialty Crops Market News Division.

DATES: Comments must be received by July 22, 2019.

ADDRESSES: Interested persons are invited to submit written comments on the internet at http://www.regulations.gov or to Specialty Crops Market News Division, AMS, USDA, 1400 Independence Avenue SW, Room 1529 South, Stop 0238, Washington, DC 20250-0238. Comments should make reference to the dates and page number of this issue of the Federal Register and will be made available for public inspection in the above office during regular business hours or at http://www.regulations.gov.

FOR FURTHER INFORMATION CONTACT: Terry C. Long, Director; Specialty Crops Market News Division, (202) 720-2175, Fax: (202) 720-0011.

SUPPLEMENTARY INFORMATION: Title: Specialty Crops Market News Division.

OMB Number: 0581-0006.

Expiration Date of Approval: November 30, 2019.

Type of Request: Revision of a currently approved information collection.

Abstract: Collection and dissemination of information for specialty crops production and to facilitate trading by providing a price base used by producers, wholesalers, and retailers to market product.

The Agricultural Marketing Act of 1946 (7 U.S.C. 1621-1627), section 203(g) directs and authorizes the collection and dissemination of marketing information including adequate outlook information, on a market area basis, for the purpose of anticipating and meeting consumer requirements, aiding in the maintenance of farm income and to bring about a balance between production and utilization.

The specialty crops industry provides information on a voluntary basis that is gathered through confidential telephone and face-to-face interviews by market reporters. Reporters request supply, demand, and price information of over 330 fresh fruit, vegetable, nut, ornamental, and other specialty crops, such as honey. The information is collected, compiled, and disseminated by Specialty Crops Market News Division in its critical role as an impartial third party. It is collected and reported in a manner which protects the confidentiality of the respondent and their operations.

The Specialty Crops Market News Division reports are used by academia and various government agencies for regulatory and other purposes, but are primarily used by the specialty crops trade, which includes packers, processors, brokers, retailers, producers, and associated industries. Members of the specialty crops industry regularly make it clear that they need and expect the Department of Agriculture to issue price and supply market reports for commodities of regional, national and international significance in order to assist in making immediate production and marketing decisions and as a guide to the amount of product in the supply channel. In addition, the Agricultural Marketing Service buys hundreds of millions of dollars of specialty crops products each year for domestic feeding programs, and Specialty Crops Market News Division data is a critical component of the decision making process.

Estimate of Burden: Public reporting burden for this collection of information is estimated to average .101 hours per response.

Respondents: Specialty crops industry, or other for-profit businesses, individuals or households, farms.

Estimated Number of Respondents: 2,776.

Estimated Number of Responses per Respondent: 202.

Estimated Total Annual Burden on Respondents: 56,636 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

All responses to this notice will be summarized and included in the request for OMB approval. All comments will also become a matter of public record.

Dated: May 20, 2019.
Bruce Summers,
Administrator, Agricultural Marketing Service.

[FR Doc. 2019-10813 Filed 5-22-19; 8:45 am]

BILLING CODE 3410-02-P